DEPARTMENT OF TRANSPORTATION

Federal Aviation Administration

Notice of Intent to Request Renewal From the Office of Management and Budget (OMB) of Five Current Public Collections of Information

AGENCY: Federal Aviation Administration (FAA), DOT.

ACTION: Notice.

SUMMARY: In compliance with the Paperwork Reduction Act (44 U.S.C. 3501 et seq.) the FAA invites public comment on five currently approved public information collections which will be submitted to OMB for renewal.

DATES: Comments must be received on or before November 7, 2005.

ADDRESSES: Comments may be mailed or delivered to the FAA at the following address: Ms. Judy Street, Room 613, Federal Aviation Administration, Information Systems and Technology Services Staff, ABA-20, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2102-0543, Pilots Convicted of Alcohol or Drug-Related Motor Vehicle Offenses or Subject to State Motor Vehicle Administrative Procedures. The requested information is needed to mitigate potential hazards presented by airmen using alcohol or drugs in flight, to identify persons possibly unsuitable for pilot certification. This collection affects those pilots who have been or will be convicted of a drug or alcohol-related traffic violation. The current estimated annual reporting burden is 364 hours.

2. 2120-0605, ACSEP Evaluation Customer Feedback Report. The information will be collected from holders of FAA production approvals and selected suppliers to obtain their input on how well the agency is performing the administration and conduct of the Aircraft Certification Systems Evaluation Program (ACSEP). The Agency will use the information as a customer service standard and to continually improve ACSEP. The current estimated annual reporting burden is 100 hours.

3. 2120-0651, Additional Flight Data Recorder Requirements for Certain Boeing 737 Airplanes. This rule requires the recording of additional operating parameters for certain Boeing 737 airplanes. These additional parameters allow the NTSB and FAA to investigate and establish causes for accidents so that the aviation industry can make appropriate modifications to prevent future incidents. The current estimated annual reporting burden is 1 hour.

4. 2120-0653, Commercial Air Tour Limitations in the Grand Canyon National Park (GCNP) Special Flight Rules Area: NPRM. The National Parks Overflights Act mandates that the recommendations provide for “substantial restoration of the natural quiet and experience of the park and protection of public health and safety from adverse effects associated with aircraft overflight.” The FAA will use the information to monitor compliance with the regulations. These respondents are GCNP air tour operators. The current estimated annual reporting burden is 86 hours.

5. 2120-0683, National Parks Air Tour Management, 14 CFR part 136. The information collected will be used by the FAA to develop an air tour management plan (ATMP) for each park in the National Park System. When an operator submits the information required (routes, aircraft type, frequency, etc.), the FAA and National Park Service (NPS) will use the information to determine an appropriate level of overflights for that particular park as required by the National Parks Air Tour Management Act. This submission will also ensure interim operating authority for the air tour operator while the ATMP is being developed. The current estimated annual reporting burden is 1,218 hours.

Issued in Washington, DC, on August 29, 2005.
Judith D. Street,
FAA Information Systems and Technology Services Staff, ABA-20.

[FR Doc. 05-17572 Filed 9-2-05; 8:45 am]

BILLING CODE 4910-13-M